DEPARTMENT OF HOMELAND SECURITY

Coast Guard

[USCG-2003-16506]

Chemical Transportation Advisory Committee and Towing Safety Advisory Committee

AGENCY: Coast Guard, DHS.

ACTION: Notice of meeting.

SUMMARY: The Subcommittee of the Chemical Transportation Advisory Committee (CTAC) on Hazardous Cargo Transportation Security and the Towing Safety Advisory Committee (TSAC) Working Group on Ammonium Nitrate will meet jointly to prepare comments to the Coast Guard regarding the potential addition of dry bulk ammonium nitrate and ammonium nitrate fertilizers that are classified as oxidizers to the definition of Certain Dangerous Cargoes. These meetings will be open to the public.

DATES: The CTAC Subcommittee on Hazardous Cargo Transportation Security and the TSAC Working Group on Ammonium Nitrate will meet on Tuesday, December 2, 2003, from 1 p.m. to 4 p.m., Wednesday, December 3, 2003, from 8 a.m. to 4 p.m. and Thursday, December 4, 2003 from 8 a.m. to 4 p.m. These meetings may close early if all business is finished. Written material and requests to make oral presentations should reach the Coast Guard on or before November 24, 2003. Requests to have a copy of your material distributed to each member of the Subcommittee and Working Group should reach the Coast Guard on or before November 24, 2003.

ADDRESSES: The Subcommittee on Hazardous Cargo Transportation Security and the TSAC Working Group on Ammonium Nitrate will meet at the Bayer Corporation Building, Robinson Plaza 2, 100 Bayer Road, Pittsburgh PA 15205. Send written material and requests to make oral presentations to Commander Robert J. Hennessy, Executive Director of CTAC, Commandant (G-MSO-3), U.S. Coast Guard Headquarters, 2100 Second Street SW., Washington, DC 20593-0001. This notice is available on the Internet at http://dms.dot.gov.

FOR FURTHER INFORMATION CONTACT: Commander Robert J. Hennessy, Executive Director of CTAC, or Mr. Gerald Miante, Assistant Executive Director of TSAC, telephone 202-267-1217, fax 202-267-4570.

SUPPLEMENTARY INFORMATION: Notice of these meetings is given under the Federal Advisory Committee Act, 5 U.S.C. App. 2.

Agenda of Subcommittee Meeting on December 2-3, 2003

Discuss potential impact to industry if dry bulk ammonium nitrate and ammonium nitrate fertilizers that are classified as oxidizers are added to the definition of Certain Dangerous Cargoes.

Agenda of Subcommittee Meeting on December 4, 2003

Prepare draft of the final report to CTAC and TSAC.

Procedural

These meetings are open to the public. Please note that the meetings may close early if all business is finished. At the discretion of the Chair, members of the public may make oral presentations during the meetings. If you would like to make an oral presentation at a meeting, please notify the Executive Director and submit written material. If you would like a copy of your material distributed to each member of the Committee in advance of a meeting, please submit 25 copies to the Executive Director (see ADDRESSES and DATES).

Information on Services for Individuals With Disabilities

For information on facilities or services for individuals with disabilities, or to request special assistance at the meeting, telephone the Executive Director as soon as possible.

Dated: November 12, 2003.
Joseph J. Angelo,
Director of Standards, Marine Safety, Security and Environmental Protection.

[FR Doc. 03-29027 Filed 11-19-03; 8:45 am]

BILLING CODE 4910-15-P